DEPARTMENT OF THE INTERIOR

Bureau of Land Management

[16X L1109AF LLUT980300-L12200000.XZ0000-24-1A]

Utah Resource Advisory Council Subcommittee Meetings/Conference Calls

AGENCY: Bureau of Land Management, Interior.

ACTION: Notice of meetings/conference calls.

SUMMARY: In accordance with the Federal Land Policy and Management Act and the Federal Advisory Committee Act, the Bureau of Land Management's (BLM) Utah Resource Advisory Council (RAC) subcommittees will host meetings/conference calls.

DATES: The BLM-Utah RAC Planning 2.0 Proposed Rule subcommittee will host a meeting/conference call on Monday, June 13, 2016, from 9 a.m. to 11 a.m., Mountain Daylight Time.

The BLM-Utah RAC Three Creeks Grazing Allotment Environmental Assessment (EA) subcommittee will host a meeting/conference call on Monday, June 13, 2016, from 1 p.m. to 3 p.m., Mountain Daylight Time.

The BLM-Utah RAC Eastern Lake Mountains Target Shooting Plan Amendment subcommittee will host a meeting/field visit on Tuesday, June 21, 2016, from 9 a.m. to 5 p.m., Mountain Daylight Time.

ADDRESSES: Those wishing to attend the Planning 2.0 Proposed Rule subcommittee conference call or the Three Creeks Grazing Allotment Environmental Assessment (EA) subcommittee conference call in person must meet at the BLM-Utah State Office, Dixie Conference Room, 440 West 200 South, Salt Lake City, Utah 84101 on Monday June 13, 2016.

If you wish to attend the Eastern Lake Mountains Target Shooting Plan Amendment meeting/field visit, meet at the east end of the Saratoga Springs Walmart parking lot, 136 W. State Road 73, Saratoga Springs, Utah, on Tuesday, June 21 at 9 a.m.

FOR FURTHER INFORMATION CONTACT: If you wish to listen to the Planning 2.0 Proposed Rule or Three Creeks Grazing Allotment EA teleconferences, orally present material during the teleconferences, or submit written material to be considered during the teleconferences, please notify Lola Bird, Public Affairs Specialist, Bureau of Land Management, Utah State Office, 440 West 200 South, Suite 500, Salt Lake City, Utah 84101; phone (801) 539-4033; or, lbird@blm.gov no later than Wednesday, June 8, 2016.

SUPPLEMENTARY INFORMATION: The BLM-Utah RAC Planning 2.0 Proposed Rule subcommittee will develop feedback on the BLM's proposed planning rule. A half-hour public comment period will take place from 10:30 to 11 a.m., Mountain Daylight Time.

The BLM-Utah RAC Three Creeks Grazing Allotment Environmental Assessment (EA) subcommittee will develop feedback on the Three Creeks Grazing Allotment EA proposed alternatives. A half-hour public comment period will take place from 2:30 to 3 p.m., Mountain Daylight Time.

The BLM-Utah RAC Eastern Lake Mountains Target Shooting Plan Amendment subcommittee will develop feedback on the Eastern Lake Mountains Target Shooting Plan Amendment proposed alternatives. A half-hour public comment period will take place from 12 to 12:30 p.m., Mountain Daylight Time, during the field visit. For those attending the field visit, a high-clearance vehicle with good tires is highly recommended. Participants should bring food, water, sunscreen, sturdy footwear, a fluorescent safety vest, and a hat.

All meetings are open to the public; however, transportation, lodging, and meals are the responsibility of the participating individuals.

Persons who use a telecommu­ni­ca­tions device for the deaf (TDD) may call the Federal Information Relay Service (FIRS) at 1-800-877-8339 to leave a message or question for the above individual. The FIRS is available 24 hours a day, seven days a week. Replies are provided during normal business hours.

Authority: 43 CFR 1784.4-1.

Jenna Whitlock,
Acting State Director.

[FR Doc. 2016-12862 Filed 5-31-16; 8:45 am]

BILLING CODE 4310-DQ-P